VETERANS AFFAIRS DEPARTMENT

[OMB Control No. 2900-0222]

Agency Information Collection Activity: Proposed Information Collection, Claim for Standard Government Headstone or Marker and Claim for Government Medallion for Placement in a Private Cemetery

AGENCY: National Cemetery Administration (NCA), Department of Veterans Affairs (VA).

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each revised collection, and to allow 60 days for public comment in response to the notice.

DATES: Written comments and recommendations on the proposed collection of information should be received on or before June 12, 2017.

ADDRESSES: Submit written comments on the collection of information through Federal Docket Management System (FDMS) at www.Regulations.gov; or Willie Lewis of National Cemetery Administration (NCA) Department of Veterans Affairs, 810 Vermont Avenue NW., Washington, DC 20420 or email: Willie.Lewis@va.gov Please refer to “VA Form 40-1330, Claim for Standard Government Headstone or Marker, and VA Form 40-1330M, Claim for Government Medallion for Placement in a Private Cemetery.

OMB Control Number “2900-.0222” in any correspondence. During the comment period, comments may be viewed online through the FDMS.

FOR FURTHER INFORMATION CONTACT: Willie Lewis at (202) 461-4242.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Form 40-1330, Claim for Standard Government Headstone or Marker, and VA Form 40-1330M, Claim for Government Medallion for Placement in a Private Cemetery.

OMB Control Number: 2900-0222.

Type of Review: Reinstatement of a previously approved collection.

Abstract: The National Cemetery Administration (NCA) updated its current VA Form 40-1330 and VA Form 40-1330M. The original VA Form 40-1330 and 40-1330M is a request for a Government-furnished headstone or marker, or medallion, respectively. The updates to the form include the following:

• Change to the Applicant Definition, who can apply for a Government headstone, marker or medallion;

• Information about the Presidential Memorial Certificate (PMC) program and the option to receive a PMC in addition to the headstone, marker or medallion;

• Changes in eligibility for a medallion, consistent with section 301 of Public Law 114-315;

• Addition of language that clarifies that “mandatory” and “optional” inscription items are provided in English, and that “additional” inscription items may be provided in English or non-English text that consists of the Latin Alphabet or numbers;

• Addition of information on VA Form 40-1330 and VA Form 40-1330M related to whether the Veteran was previously determined by VA to be eligible for burial, and related to whether the request is initial or for a replacement headstone or marker;

• Addition of “Iraq” and “Afghanistan” as indicators of “War Service,” consistent with Public Law 114-315;

• Addition of Age at the Time of Death on VA Form 40-1330 and VA Form 40-1330M; and

• Addition of demographic information for statistical reporting purposes only on VA Form 40-1330 and VA Form 40-1330M.

Upon appropriate approval, the VA Web site will display the updated version of the VA Form 40-1330 and VA Form 1330M for public use.

Affected Public: Individual or Households.

Estimated Annual Burden: 88,643 Burden Hours.

Estimated Average Burden per Respondent: 15-Minutes.

Frequency of Response: One-time.

Estimated Number of Respondents: 166,135.

By direction of the Secretary.
Cynthia Harvey-Pryor,
Department Clearance Officer, Enterprise Records Service, Office of Quality and Compliance, Department of Veterans Affairs.

[FR Doc. 2017-07398 Filed 4-11-17; 8:45 am]

BILLING CODE 8320-01-P